FEDERAL RETIREMENT THRIFT INVESTMENT BOARD

Employee Thrift Advisory Council

Time and Date: 10 a.m. (Eastern Time), December 19, 2007.

Place: 4th Floor, Conference Room, 1250 H Street, NW., Washington, DC.

Status: Open.

Matters to be Considered:

1. Approval of the minutes of the June 12, 2007 meeting.

2. Report of the Executive Director on Thrift Savings Plan Status.

3. Discussion of frequent trading.

4. Other proposals.

5. New business.

Contact Person for More Information: Thomas K. Emswiler, Committee Management Officer, (202) 942-1660.

Dated: November 30, 2007.
Thomas K. Emswiler,
General Counsel, Federal Retirement Thrift Investment Board.

[FR Doc. 07-5947 Filed 11-30-07; 4:21 pm]

BILLING CODE 6760-01-P